DEPARTMENT OF THE TREASURY

Internal Revenue Service

26 CFR Part 1

[REG-118425-18]

RIN 1545-BO90

Section 199A Rules for Cooperatives and Their Patrons; Correction

AGENCY: Internal Revenue Service (IRS), Treasury.

ACTION: Notice of proposed rulemaking; withdrawal of notice of proposed rulemaking; correction.

SUMMARY: This document contains a correction to a notice of proposed rulemaking; withdrawal of notice of proposed rulemaking (REG-118425-18) that was published in the Federal Register on June 19, 2019 (84 FR 28668). The proposed regulations provide guidance to cooperatives to which sections 1381 through 1388 of the Internal Revenue Code (Code) apply (Cooperatives) and their patrons regarding the deduction for qualified business income (QBI) under section 199A(a) of the Code as well as guidance to specified agricultural or horticultural cooperatives (Specified Cooperatives) and their patrons regarding the deduction for domestic production activities under section 199A(g) of the Code.

DATES: Written or electronic comments and requests for a public hearing are still being accepted and must be received by August 19, 2019.

FOR FURTHER INFORMATION CONTACT: Concerning the proposed regulations, James Holmes at (202) 317-4137; concerning submission of comments or to request a public hearing, Regina Johnson, (202) 317-6901 (not toll-free numbers).

SUPPLEMENTARY INFORMATION:

Background

The proposed regulations that are the subject of this correction are under sections 199A and 1388 of the Internal Revenue Code.

Need for Correction

As published, the notice of proposed rulemaking; withdrawal of notice of proposed rulemaking (REG-118425-18) contains errors which may prove to be misleading and need to be clarified.

Correction of Publication

Accordingly, the notice of proposed rulemaking; withdrawal of notice proposed rulemaking (REG-118425-18) that was the subject of FR Doc. 2019-11501, published at 84 FR 28668 (June 19, 2019), is corrected to read as follows:

1. On page 28668, in the preamble, second column, under caption ADDRESSES, third line from the bottom of the paragraph, the language “1118425-18” is corrected to read “118425-18”.

2. On page 28670, in the preamble, first column, the sixth line from the bottom of the last paragraph, the language “defined under section” is corrected to read “defined under”.

3. On page 28670, in the preamble, second column, the third line from the bottom of the last partial paragraph, the language “deduction and” is corrected to read “deduction, and “.

4. On page 28671, in the preamble, first column, the twelfth line from the bottom of the page, the language “deduction and” is corrected to read “deduction, and”.

5. On page 28671, in the preamble, second column, under the paragraph heading “D. Determination of W-2 Wages and UBIA of Qualified Property”, the first line of the paragraph, the language “Section § ” is corrected to read “Section”.

6. On page 28676, in the preamble, second column, under the paragraph V. Proposed § 1.199A-11, Wage Limitation, the sixth line of the paragraph, the language “2019-16” is corrected to read “2019-31”.

§ 1.99A-8 [Corrected]

7. On page 28689, column 3, paragraph (d)(7), the fourth line, the language “applicable) by” is corrected to read “applicable, by”.

§ 1.99A-12 [Corrected]

8. On page 28705, column 2, paragraph (h) Example 2 (i), the seventh line, the language, “All of X,” is corrected to read “All of X's,”.

Martin V. Franks,
Chief, Publications and Regulations Branch, Legal Processing Division, Associate Chief Counsel (Procedure and Administration).

[FR Doc. 2019-16378 Filed 8-5-19; 8:45 am]

BILLING CODE 4830-01-P